DEPARTMENT OF ENERGY

Federal Energy Regulatory Commission

[Docket No. RM05-32-000]

Repeal of the Public Utility Holding Company Act of 1935 and Enactment of the Public Utility Holding Company Act of 2005; Notice of New “FC” Docket Prefix and Filing Guidelines for Self-Certification Notices Under the Public Utility Holding Company Act of 2005

March 6, 2006.

By this Notice the Commission issues guidelines on the procedures for obtaining exempt wholesale generator and foreign utility company status under the Public Utility Holding Company Act of 2005 (PUHCA 2005) and 18 CFR 366.7. The guidelines are attached to this notice and will be included in the set of guidelines for filings under PUHCA 2005 that are available on the Commission's Web site at http://www.ferc.gov/help/how-to.asp. Notices of self-certification for exempt wholesale generator status will receive a new EG docket prefix, even if a prior EG docket applied to the facility. Notices of self-certification of foreign utility company status will receive a docket number with a newly created “FC” prefix.

Both the notices of self-certification of exempt wholesale generator status and notices of self-certification of foreign utility company status should be submitted using the Commission's electronic filing system accessible at the FERC Online link on http://www.ferc.gov.

For exempt wholesale generator notices filed on or before September 30, 2006, the heading of the document should refer to EG06-__-000. For foreign utility company notices filed on or before that date, the heading should include FC06-__-000.

Magalie R. Salas,
Secretary.

Attachment

Filing Guidelines for Holding Company Filings Under the Public Utility Holding Company Act of 2005 and 18 CFR Part 366

This document contains the guidelines for the following filings pursuant to the Public Utility Holding Company Act of 2005 and Commission Order No. 667, issued December 8, 2005:

(1) FERC-65, Notification of Holding Company Status (18 CFR 366.4(a)),

(2) FERC-65A, Exemption Notification (18 CFR 366.4(b)),

(3) FERC-65B, Waiver Notification (18 CFR 366.4(c)), and

(4) SEC Financing Authorization Orders or Letters/Reports/Other Submissions (18 CFR 366.6(b)),

(5) Notice of Self-Certification of Exempt Wholesale Generator Status (18 CFR 366.7),

(6) Notice of Self-Certification of Foreign Utility Company Status (18 CFR 366.7).

FERC-65, FERC-65A, and FERC-65-B refer to FERC reporting designations and do not represent actual forms.

FERC-65, Notification of Holding Company Status (18 CFR 366.4(a))

Companies that are holding companies as of February, 8, 2006, shall notify the Commission of their status as a holding company no later than 14 days after the Commission issues an order on rehearing. Holding companies formed after February 8, 2006, shall notify the Commission of their status no later than the later of 14 days after the Commission issues an order on rehearing or 30 days after their formation.

These notification filings should be submitted using the Commission's eFiling system available at http://www.ferc.gov/docs-filing/ferconline.asp. Do not include waiver or exemption notifications with these filings. The document you submit should include HC06-1-000 in the caption or heading of the document for any notification filed on or before September 30, 2006. During the eFiling submission process:

1. Select the filing type “Production of Document.”

2. On the Select Docket screen, enter HC06-1 in the docket number search block and select HC06-1-000 from the results.

3. Before you browse, select, and attach the file, make sure that the file name is less than 25 characters and contains no spaces or special characters.

4. On the Submission Description screen, edit the description by replacing “Production of Document” with “Notification of Holding Company Status.”

If you are unable to file electronically, you must submit an original and 14 paper copies of the filing to: Magalie R. Salas, Secretary, Federal Energy Regulatory Commission, 888 First Street, NE., Washington, DC 20426.

It is not necessary to include a form of notice for the Federal Register.

Please be advised that the United States Postal Service scans all documents addressed to the Commission with a heat-treatment process that may corrupt diskettes and render filings unusable. You are recommended to use express mail or courier delivery services.

FERC-65A (Exemption Notification) (18 CFR 366.4(b))

FERC-65B (Waiver Notification) (18 CFR 366.4(c))

These filings must be submitted on paper at this time. The document you submit should include PH06-__-000 in the caption or heading of the document, for filings made on or before September 30, 2006.

Submit an original and 14 copies of all “PH” filings, with a form of notice of the “PH” filing suitable for publication in the Federal Register on a 3½″ diskette, to: Magalie R. Salas, Secretary, Federal Energy Regulatory Commission, 888 First Street, NE., Washington, DC 20426.

Forms of notice for “PH” exemption and waiver requests are available on the Commission's Web site at http://www.ferc.gov/docs-filing/not-form.asp.

Please be advised that the United States Postal Service scans all documents addressed to the Commission with a heat-treatment process that may corrupt diskettes and render filings unusable. You are recommended to use express mail or courier delivery services.

SEC-Related Financing Authorization Orders or Letters/Reports/Other Submissions (18 CFR 366.6(b))

Holding companies that intend to rely on financing authorization orders or letters issued by the Securities and Exchange Commission (SEC), or that submitted reports or other submissions previously with the SEC and that now must file with the Commission, must file these orders, letters, reports or other submissions with the Commission by March 10, 2006.

These filings should be submitted using the Commission's eFiling system, available at http://www.ferc.gov/docs-filing/ferconline.asp provided that the entire content of the filing is in the public domain. Do not include filings under any other section with the authorization orders. The document you submit should include HC06-2-000 (Note—do not use HC06-1-000 for such submittals) in the caption or heading of the document, for filings made on or before September 30, 2006. During the eFiling submission process:

1. Select the filing type “Production of Document.”

2. On the Select Docket screen, enter HC06-2 in the docket number search block and select HC06-2-000 from the results.

3. Before you browse, select, and attach the file, make sure that the file name is less than 25 characters and contains no spaces or special characters.

4. On the Submission Description screen, edit the description by replacing “Production of Document” with “SEC Financing Authorization Order/Letter.”

If you are unable to file electronically, you must submit an original and 14 paper copies of the filing to: Magalie R. Salas, Secretary, Federal Energy Regulatory Commission, 888 First Street, NE., Washington, DC 20426.

It is not necessary to include a form of notice for the Federal Register.

Please be advised that the United States Postal Service scans all documents addressed to the Commission with a heat-treatment process that may corrupt diskettes and render filings unusable. You are recommended to use express mail or courier delivery services.

Self-Certification Notices for Exempt Wholesale Generators and Foreign Utility Companies (18 CFR 366.7)

An exempt wholesale generator or a foreign utility company, or their representative, may file with the Commission a notice of self-certification demonstrating that it satisfies the definition of exempt wholesale generator or foreign utility company. No filing fee is required for a notice of self-certification.

In the case of exempt wholesale generators, the person filing a notice of self-certification under this section must also represent in its filing that it has provided a copy of the notice to the state regulatory authority of the state in which the facility is located, and must further represent in its filing, to the extent necessary, that the state commission has made the “specific determination” provided in section 32(c) of the Public Utility Holding Company Act of 1935 (15 U.S.C. 79z-5a(c)).

In the case of foreign utility companies, the person filing a notice of self-certification under this section must represent in its filing that the relevant state commissions have certified that they had the authority and resources to protect ratepayers of public utility companies associated or affiliated with the foreign utility company.

Because notices of these filings will be published in the Federal Register, both exempt wholesale generators and foreign utility companies must include in their submission a separate file containing a form of notice suitable for publication in the Federal Register.

These filings should be submitted using the Commission's eFiling system, available at http://www.ferc.gov/docs-filing/ferconline.asp provided that the entire content of the filing is in the public domain. Do not include filings under any other section with these filings. The document you submit should include EG06-__-000 or FC06-__-000, as applicable, in the caption or heading of the document, for filings made on or before September 30, 2006. During the eFiling submission process:

1. Select the filing type “Qualifying Facility Notice of Self Certification.” (At a later date, this filing type will be changed to Notice of Self-Certification for QF's, EG's, and FC's.”).

2. Before you browse, select, and attach the file, make sure that the file names are less than 25 characters and contain no spaces or special characters.

3. On the Submission Description screen, edit the description by replacing “Qualifying Facility Notice of Self Certification” with either (a) “Exempt Wholesale Generator Notice of Self Certification” or (b) “Foreign Utility Company Notice of Self Certification”, as applicable.

If you are unable to file electronically, you must submit an original and 14 paper copies of the filing to: Magalie R. Salas, Secretary, Federal Energy Regulatory Commission, 888 First Street, NE., Washington, DC 20426.

You must include a form of notice of the “EG” or “FC” filing suitable for publication in the Federal Register on a 3½″ diskette.

Please be advised that the United States Postal Service scans all documents addressed to the Commission with a heat-treatment process that may corrupt diskettes and render filings unusable. You are recommended to use express mail or courier delivery services.

[FR Doc. E6-3487 Filed 3-10-06; 8:45 am]

BILLING CODE 6717-01-P